DEPARTMENT OF THE INTERIOR

Minerals Management Service

Final Wyoming Oil and Texas Section 8(g) Natural Gas Royalty-In-Kind Pilot Reports

AGENCY: Minerals Management Service (MMS), Interior.

ACTION: Notice of availability of oil and natural gas royalty-in-kind pilot reports.

SUMMARY: The MMS will post on MMS's Internet Home Page two reports. The first report evaluates oil sold in kind in Wyoming. The second report evaluates gas sold in kind through a pilot program undertaken by MMS and the State of Texas.

DATES: The Reports will be posted on the MMS's Internet Home Page on March 12, 2004.

ADDRESSES: The Reports will be posted on Minerals Revenue Management's Home Page at http://www.mrm.mms.gov under “What's New.” The Reports may also be obtained by contacting Mr. Martin C. Grieshaber at the address in the FURTHER INFORMATION section.

FOR FURTHER INFORMATION CONTACT: For additional information concerning the Report, contact Mr. Martin C. Grieshaber, Minerals Management Service, MS 9200, P.O. Box 25165, Denver, CO 80225-0165; telephone number (303) 275-7118; fax (303) 275-7124; e-mail Martin.Grieshaber@mms.gov.

SUPPLEMENTARY INFORMATION: The MMS in conjunction with the State of Wyoming for oil and the State of Texas for gas from section 8(g) leases in the Gulf of Mexico initiated the pilots as part of the continuing effort to follow through on the recommendations of the Royalty-In-Kind Feasibility Study published by MMS in 1997. Both reports have been previously released as drafts. The MMS received relatively few comments.

In Wyoming, the MMS coordinated with the State and began taking in kind and offering for sale oil from leases in the Big Horn and Powder River Basins in October 1998. The Report summarizes and analyzes the results of the first three 6-month sales. The Report includes an addendum responding to comments received concerning the indices used in the analysis.

The gas RIK pilot undertaken jointly by the State of Texas General Land Office and MMS, began in June 1999. The pilot included 13 of the 40 leases offshore Texas subject to section 8(g) of the OCS Lands Act. The Report summarizes and analyzes the results of the sales for the first 19 months—June 1999 through December 2000.

Many of the lessons learned during the Wyoming oil and the Texas 8(g) pilots have been carried over to the expansion of the gas RIK pilots to the entire Gulf of Mexico (GOM).

The internet posting and availability of the Report in hard copy are being announced by a press release as well as in this Federal Register notice.

Dated: March 1, 2004.
R. M. “Johnnie” Burton,
Director, Minerals Management Service.

[FR Doc. 04-5626 Filed 3-11-04; 8:45 am]

BILLING CODE 4310-MR-P